DEPARTMENT OF STATE

[Public Notice 6593]

Bureau of Educational and Cultural Affairs (ECA)

Request for Grant Proposals: English Access Microscholarship Program.

Announcement Type: New Cooperative Agreement.

Funding Opportunity Number: ECA/A/L 09-02.

Catalog of Federal Domestic Assistance Number: 00.000.

Key Dates:

Application Deadline: June 15, 2009.

Executive Summary: The Office of English Language Programs announces an open competition for the administration of the English Access Microscholarship Program (Access Program), which provides a foundation of English language skills to bright 14- to 18-year-olds from disadvantaged sectors overseas through in-country after school classes and intensive summer learning activities. The microscholarships fund in-country study for classes close to the students' homes. The Cooperative Agreement recipient's role is to disburse funds to in-country educational service providers selected by U.S. Embassies. These funds will support in-country educational service providers' activities such as English language programming for Access students and in-service teacher training for Access directors and teachers. In addition, the recipient will provide at least two U.S. summer workshops, one for selected Access Program directors and teachers and the other for selected Access students. In addition to providing quality instruction in the English language to Access students and the latest methodology to Access directors and teachers, workshops must include content that gives the participants insights into, and an appreciation for, U.S. culture and democratic values.

I. Funding Opportunity Description

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Purpose: The English Access Microscholarship Program provides a foundation of English language skills to bright 14- to 18-year-olds from disadvantaged sectors through after school classes and intensive summer learning activities. The program also gives participants the opportunity to gain an appreciation for U.S. culture and democratic values, increase their ability to participate successfully in the socio-economic development of their countries, and improve their ability to compete to participate in U.S. educational and exchange programs. The Bureau of Educational and Cultural Affairs' Office of English Language Programs (ECA/A/L), based on input from U.S. Embassies' Public Affairs sections, designates the schools or other educational service providers that conduct the classes and in-service teacher training. (Note: Throughout this Request for Grant Proposals, these schools, NGOs and other partners will be referred to as “in-country educational service providers.”) The in-country educational service providers, in collaboration with the U.S. Embassies, select the students. The microscholarships fund in-country study for classes close to the students' homes. English Access Microscholarships do not support study in the United States. Because of the Program's worldwide scope, the method of instruction, curriculum, textbooks, tests, hours of instruction, cost per student, and other program elements may vary considerably from country to country, and sometimes within a single country.

Background: In FY2006, the Bureau of Educational and Cultural Affairs' Office of English Language Programs assumed overall management of the Department's English Access Microscholarship Program. The Program was launched in 2004 as a pilot program in countries of the Middle East and North Africa. The program has expanded to become a key foundation element in the Bureau's continuum of exchanges to reach younger and more diverse audiences worldwide. Since its inception in 2004, approximately 44,000 students in more than 55 countries have participated in the Access Program. The Bureau anticipates providing English Access Microscholarships to approximately 10,000 students worldwide under this award. The current participating countries are: Afghanistan, Albania, Algeria, Argentina, Azerbaijan, Bahrain, Bangladesh, Benin, Bosnia and Herzegovina, Brazil, Burkina Faso, Burma, Cambodia, Chad, Chile, China, Côte d'Ivoire, Cyprus, Democratic Republic of the Congo, Ethiopia, Egypt, India, Indonesia, Israel, Jordan, Kazakhstan, Kenya, Kosovo, Kuwait, Kyrgyzstan, Lebanon, Libya, Malaysia, Mauritania, Mexico, Mongolia, Morocco, Mozambique, Niger, Nigeria, Oman, Pakistan, Peru, Philippines, Russia, Saudi Arabia, Senegal, Sri Lanka, South Africa, Syria, Tajikistan, Tanzania, Thailand, Togo, Tunisia, Turkey, Turkmenistan, United Arab Emirates, Uruguay, Uzbekistan, West Bank/Gaza, and Yemen.

Program Goals: In addition to providing quality instruction in the English language, all courses in which Access Program students are enrolled are required to have adequate and appropriate content to give the students insights into, and an appreciation for, U.S. culture and democratic values. Another important goal of the English Access Microscholarship Program is to provide students with sufficient English language skills to apply and compete successfully for ECA exchange programs or other study opportunities for young people to the U.S. Access students also acquire sufficient language skills to participate in ECA and embassy-sponsored alumni activities. U.S. Embassies' Public Affairs sections will work closely with Regional English Language Officers, English Language Fellows and Specialists to familiarize Access directors and teachers with U.S. student-centered teaching methods, various materials illustrating U.S. society, culture and diversity, and the role of materials in the language classroom.

Cooperative Agreement Recipient's Responsibilities: The cooperative agreement recipient (hereafter referred to as recipient organization) that is awarded the English Access Microscholarship Program from the Bureau will be responsible for the following activities:

1. Disbursing funds to in-country educational service providers in each of the participating countries. The in-country educational service providers are schools, NGOs or other educational providers selected by U.S. Embassies to enroll the scholarship students. The providers may also provide in-service teacher training. The amounts to be disbursed, as well as the in-country educational service providers, are determined by ECA/A/L in consultation with U.S. Embassies and the State Department's Regional Bureaus.

Note: If the recipient organization is also selected by a U.S. Embassy to be an in-country educational service provider, strict internal financial and management procedures must be established to ensure that the two roles are distinct. For example, separate accounts must be established to preclude co-mingling of funds, separate support staff must be maintained, etc.

The recipient organization makes numerous disbursements to each in-country educational service provider per year. ECA/A/L will authorize the disbursements as necessary based on program requirements. Individual disbursements to in-country educational service providers will vary in size depending on the size of the Program in each country, ranging from several thousand dollars to several hundred thousand dollars per in-country educational service provider.

Additionally, the recipient organization, under the close supervision of ECA/A/L, will:

2. Plan, conduct, and fund at least one workshop (approximately two weeks or more in duration) in the U.S. for approximately 12-25 teachers and directors of the Program, chosen by ECA/A/L from nominations by U.S. Embassies. The workshop will focus on the latest EFL methodology, linguistic enhancement, educational leadership, cultural interchange and “best practices” in the classroom. In addition participants will develop a project to implement with Access students in their countries.

3. Plan, conduct, and fund at least one workshop (approximately two weeks or more in duration) in the U.S. for approximately 20-25 English Access Microscholarship Program students, chosen by ECA/A/L from nominations by U.S. Embassies. The workshop will focus on giving the students an immersion experience in U.S. culture and the English language and will entail travel to several cities in diverse regions of the United States.

4. Issue DS-2019 forms to participants in the workshops.

5. Ship books and materials to the providers in the field as required. ECA/A/L will authorize the shipments as necessary based on program requirements.

6. Draft and clear all public advertisements, newsletters, and Web sites with ECA/A/L before development and dissemination to ensure proper identification of the U.S. Government and ECA role.

Cooperative Agreement: In a Cooperative Agreement, ECA/A/L is substantially involved in the program activities, above and beyond routine grant monitoring. ECA/A/L activities and responsibilities for this Program are as follows:

1. Selects, based on input from U.S. Embassies and the State Department's Regional Bureaus, the in-country educational service providers (schools, NGOs, etc.) that will provide English language instruction to the Access program students and implement in-service teacher training;

2. Selects, based on input from U.S. Embassies, the State Department's Regional Bureaus, and the in-country educational service providers, the students who receive the microscholarships;

3. Determines, based on input from U.S. Embassies and the State Department's Regional Bureaus, the amount and timing of financial disbursements by the recipient organization to the in-country educational service providers;

4. Serves, except for routine disbursements and other transactions approved in advance by ECA/A/L, as the recipient organization's primary point of contact and intermediary with the in-country educational service providers and teachers involved in the Program. Similarly, ECA/A/L serves as the primary point of contact and intermediary with the U.S. Embassies and students involved in the Program.

In this Cooperative Agreement, U.S. Embassies are also substantially involved in the program activities, above and beyond routine grant monitoring. U.S. Embassies' activities and responsibilities for this Program are as follows:

1. Collaborates with in-country educational service providers in the student selection process;

2. Selects the in-country educational service providers (schools, NGOs, universities, etc.) that will provide English language instruction to the Access Program students;

3. Participates in enhancement activities for Access students, when possible;

4. Proposes participants to ECA/A/L for the U.S. workshops;

5. Conducts regular review of the in-country educational service providers' program and accounts;

6. Provides certificates signed by the U.S. Ambassador to the students at the beginning and end of the Program;

7. Conducts regular review of the in-country educational service providers' program and accounts; and

8. Proposes in-service training for Access directors and teachers.

II. Award Information

Type of Award: Cooperative Agreement. ECA's level of involvement in this program is listed under section I above.

Fiscal Year Funds: FY2009.

Approximate Total Funding: The Cooperative Agreement may be up to $19,289,970. Approximately $1.25 million comes from the FY2008/2009 Economic Support Funds for Central America (Merida Initiative) transferred to ECA for obligation in FY2009, an additional $2,202,970 in recoveries, and $15.837 million comes from the FY2009 ECA Exchange Appropriation to implement the English Access Microscholarship Program.

Approximate Number of Awards: 1.

Approximate Average Award: The cooperative agreement award may be up to $19,289,970.

Floor of Award Range:

Ceiling of Award Range:

Anticipated Award Date: September 1, 2009.

Anticipated Project Completion Date: December 31, 2012.

Additional Information: Pending successful implementation of this program and the availability of funds in subsequent fiscal years, it is ECA's intent to renew this cooperative agreement for two additional fiscal years, before openly competing it again.

III. Eligibility Information

III.1. Eligible Applicants

Applications may be submitted by public and private non-profit organizations meeting the provisions described in Internal Revenue Code section 26 U.S.C. 501(c)(3).

III.2. Cost Sharing or Matching Funds

The Bureau's goal is to maximize the number of microscholarships being made available and expects that approximately 90 (ninety) percent or more of the funds provided through this cooperative agreement will be used for funding of microscholarships and for funding of other mandatory program elements (workshops, etc.) described under Section 1 of this RFGP. When cost sharing is offered, it is understood and agreed that the applicant must provide the amount of cost sharing as stipulated in this RFGP and later included in an approved agreement. Cost sharing may be in the form of allowable direct or indirect costs. For accountability, you must maintain written records to support all costs which are claimed as your contribution, as well as costs to be paid by the Federal Government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements

(a) Bureau grant guidelines require that organizations with less than four years experience in conducting international exchanges be limited to $60,000 in Bureau funding. ECA anticipates making one award pending the availability of funds, in an amount up to $19,289,970 to support program and administrative costs required to implement this exchange program. Therefore, organizations with less than four years experience in conducting international exchanges are ineligible to apply under this competition. The Bureau encourages applicants to provide maximum levels of cost sharing and funding in support of its programs.

IV. Application and Submission Information

Note: Please read the complete announcement before sending inquiries or submitting proposals. Once the RFGP deadline has passed, Bureau staff may not discuss this competition with applicants until the proposal review process has been completed.

IV.1 Contact Information to Request an Application Package

Please contact the Bureau of Educational and Cultural Affairs, Office of English Language Programs, ECA/A/L, Room 304, U.S. Department of State, SA-44, 301 4th Street, SW., Washington, DC 20547, Telephone: 202-453-8855, Fax: 202-453-8858, and accessprogram@state.gov to request a Solicitation Package.

Please refer to the Funding Opportunity Number ECA/A/L 09-02 located at the top of this announcement when making your request. Alternatively, an electronic application package may be obtained from grants.gov. Please see section IV.3f for further information.

The Solicitation Package contains the Proposal Submission Instruction (PSI) document which consists of required application forms, and standard guidelines for proposal preparation.

It also contains the Project Objectives, Goals and Implementation (POGI) document, which provides specific information, award criteria and budget instructions tailored to this competition.

Please specify Bureau Program Officer Melissa Fernandez and refer to the Funding Opportunity Number ECA/A/L 09-02 located at the top of this announcement on all other inquiries and correspondence.

IV.2. To Download a Solicitation Package via Internet

The entire Solicitation Package may be downloaded from the Bureau's Web site at http://exchanges.state.gov/grants/open2.html, or from the Grants.gov Web site at http://www.grants.gov.

Please read all information before downloading.

IV.3. Content and Form of Submission

Applicants must follow all instructions in the Solicitation Package. The application should be submitted per the instructions under IV.3f. “Application Deadline and Methods of Submission” section below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, proposal narrative and budget.

Please Refer to the Solicitation Package. It contains the mandatory Proposal Submission Instructions (PSI) document and the Project Objectives, Goals and Implementation (POGI) document for additional formatting and technical requirements.

IV.3c. You must have nonprofit status with the IRS at the time of application. Please note: Effective January 7, 2009, all applicants for ECA federal assistance awards must include in their application the names of directors and/or senior executives (current officers, trustees, and key employees, regardless of amount of compensation). In fulfilling this requirement, applicants must submit information in one of the following ways:

(1) Those who file Internal Revenue Service Form 990, “Return of Organization Exempt From Income Tax,” must include a copy of relevant portions of this form.

(2) Those who do not file IRS Form 990 must submit information above in the format of their choice.

In addition to final program reporting requirements, recipient organizations will also be required to submit a one-page document, derived from their program reports, listing and describing their grant activities. For award recipients, the names of directors and/or senior executives (current officers, trustees, and key employees), as well as the one-page description of grant activities, will be transmitted by the State Department to OMB, along with other information required by the Federal Funding Accountability and Transparency Act (FFATA), and will be made available to the public by the Office of Management and Budget on its USASpending.gov Web site as part of ECA's FFATA reporting requirements.

If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1 Adherence to All Regulations Governing the J Visa

The Bureau of Educational and Cultural Affairs places critically important emphases on the security and proper administration of the Exchange Visitor (J visa) Programs and adherence by award recipients and sponsors to all regulations governing the J visa. Therefore, proposals should demonstrate the applicant's capacity to meet all requirements governing the administration of the Exchange Visitor Programs as set forth in 22 CFR 62, including the oversight of Responsible Officers and Alternate Responsible Officers, screening and selection of program participants, provision of pre-arrival information and orientation to participants, monitoring of participants, proper maintenance and security of forms, recordkeeping, reporting and other requirements. The award recipient will be responsible for issuing DS-2019 forms to participants in this program. The Office of English Language Programs (ECA/A/L) will assist in issuing DS-2019s as necessary.

A copy of the complete regulations governing the administration of Exchange Visitor (J) programs is available at http://exchanges.state.gov or from:

United States Department of State, Office of Exchange Coordination and Designation, ECA/EC/ECD—SA-44, Room 734, 301 4th Street, SW. Washington, DC 20547, Telephone: (202) 203-5029, FAX: (202) 453-8640.

Please refer to Solicitation Package for further information.

IV.3d.2 Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the ‘Support for Diversity' section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3. Program Monitoring and Evaluation

Proposals must include a plan to monitor and evaluate the project's success, both as the activities unfold and at the end of the program. The Bureau recommends that your proposal include a draft survey questionnaire or other technique plus a description of a methodology to use to link outcomes to original project objectives. The Bureau expects that the recipient organization will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Recipient organizations will be required to provide reports analyzing their evaluation findings to the Bureau in their regular program reports. All data collected, including survey responses and contact information, must be maintained for a minimum of three years and provided to the Bureau upon request.

IV.3e. Please take the following information into consideration when preparing your budget:

IV.3e.1. Applicants must submit SF-424A—“Budget Information—Non-Construction Programs” along with a comprehensive budget for the entire program. There must be a summary budget as well as breakdowns reflecting both administrative and program budgets. Applicants may provide separate sub-budgets for each program component, phase, location, or activity to provide clarification.

Please refer to the Solicitation Package for complete budget guidelines and formatting instructions.

IV.3f. Application Deadline and Methods of Submission

Application Deadline Date: June 15, 2009.

Reference Number: ECA/A/L 09-02.

Methods of Submission:

Applications may be submitted in one of two ways:

(1) In hard-copy, via a nationally recognized overnight delivery service (i.e., Federal Express, UPS, Airborne Express, or U.S. Postal Service Express Overnight Mail, etc.), or

(2) Electronically through http://www.grants.gov.

Please note: ECA strongly encourages organizations interested in applying for this competition to submit printed, hard copy applications as outlined in section IV.3f.1., below rather than submitting electronically through Grants.gov. This recommendation is being made as a result of the anticipated high volume of grant proposals that will be submitted via the Grants.gov webportal as part of the Recovery Act stimulus package. As stated in this RFGP, ECA bears no responsibility for data errors resulting from transmission or conversion processes for proposals submitted via Grants.gov

Along with the Project Title, all applicants must enter the above Reference Number in Box 11 on the SF-424 contained in the mandatory Proposal Submission Instructions (PSI) of the solicitation document.

IV.3f.1 Submitting Printed Applications

Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission please make sure to include one extra copy of the completed SF-424 form and place it in an envelope addressed to “ECA/EX/PM”.

The original and 15 copies of the application should be sent to:

U.S. Department of State, SA-44, Bureau of Educational and Cultural Affairs, Ref.: ECA/A/L 09-02, Program Management, ECA/EX/PM, Room 534, 301 4th Street, SW., Washington, DC 20547.

Applicants submitting hard-copy applications must also submit the “Executive Summary” and “Proposal Narrative” sections of the proposal in text (.txt) or Microsoft Word format on a PC-formatted disk. The Bureau will provide these files electronically to the appropriate Public Affairs Section(s) at the U.S. embassy(ies) for review.

IV.3f.2 Submitting Electronic Applications

Applicants have the option of submitting proposals electronically through Grants.gov (http://www.grants.gov). Complete solicitation packages are available at Grants.gov in the “Find” portion of the system.

Please Note: ECA strongly encourages organizations interested in applying for this competition to submit printed, hard copy applications as outlined in section IV.3f.1. above, rather than submitting electronically through Grants.gov. This recommendation is being made as a result of the anticipated high volume of grant proposals that will be submitted via the Grants.gov webportal as part of the Recovery Act stimulus package. As stated in this RFGP, ECA bears no responsibility for data errors resulting from transmission or conversion processes for proposals submitted via Grants.gov.

Please follow the instructions available in the `Get Started' portion of the site (http://www.grants.gov/GetStarted).

Several of the steps in the Grants.gov registration process could take several weeks. Therefore, applicants should check with appropriate staff within their organizations immediately after reviewing this RFGP to confirm or determine their registration status with Grants.gov.

Once registered, the amount of time it can take to upload an application will vary depending on a variety of factors including the size of the application and the speed of your internet connection. In addition, validation of an electronic submission via Grants.gov can take up to two business days.

Therefore, we strongly recommend that you not wait until the application deadline to begin the submission process through Grants.gov.

The Grants.gov Web site includes extensive information on all phases/aspects of the Grants.gov process, including an extensive section on frequently asked questions, located under the “For Applicants” section of the Web site. ECA strongly recommends that all potential applicants review thoroughly the Grants.gov Web site, well in advance of submitting a proposal through the Grants.gov system. ECA bears no responsibility for data errors resulting from transmission or conversion processes.

Direct all questions regarding Grants.gov registration and submission to:

Grants.gov Customer Support, Contact Center Phone: 800-518-4726, Business Hours: Monday-Friday, 7 a.m.-9 p.m. Eastern Time, E-mail: support@grants.gov.

Applicants have until midnight (12 a.m.), Washington, DC time of the closing date to ensure that their entire application has been uploaded to the Grants.gov site. There are no exceptions to the above deadline. Applications uploaded to the site after midnight of the application deadline date will be automatically rejected by the Grants.gov system, and will be technically ineligible.

Please refer to the Grants.gov Web site, for definitions of various “application statuses” and the difference between a submission receipt and a submission validation. Applicants will receive a validation e-mail from Grants.gov upon the successful submission of an application. Again, validation of an electronic submission via Grants.gov can take up to two business days. Therefore, we strongly recommend that you not wait until the application deadline to begin the submission process through Grants.gov. ECA will not notify you upon receipt of electronic applications.

It is the responsibility of all applicants submitting proposals via the Grants.gov web portal to ensure that proposals have been received by Grants.gov in their entirety, and ECA bears no responsibility for data errors resulting from transmission or conversion processes.

IV.3g. Intergovernmental Review of Applications: Executive Order 12372 does not apply to this program.

V. Application Review Information

V.1. Review Process

The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance award cooperative agreements resides with the Bureau's Grants Officer.

Review Criteria

Technically eligible applications will be competitively reviewed according to the criteria stated below. These criteria are not rank ordered and all carry equal weight in the proposal evaluation:

1. Quality of the program idea: Proposals should exhibit originality, substance, precision, and relevance to the Bureau's mission.

2. Program planning: Detailed agenda and relevant work plan should demonstrate substantive undertakings and logistical capacity. Agenda and plan should adhere to the program overview and guidelines described above.

3. Ability to achieve program objectives and institutional capacity: Objectives should be reasonable, feasible, and flexible. Proposals should clearly demonstrate how the institution will meet the program's objectives and plan. Proposed personnel and institutional resources should be adequate and appropriate to achieve the Program or project's goals

4. Institution's Record/Ability: Proposals should demonstrate an institutional record of successful exchange programs, including responsible fiscal management and full compliance with all reporting requirements for past Bureau awards (grants or cooperative agreements) as determined by Bureau Grants Staff. The Bureau will consider the past performance of prior recipients and the demonstrated potential of new applicants.

5. Support of Diversity: Proposals should demonstrate substantive support of the Bureau's policy on diversity. Achievable and relevant features should be cited in both program administration (selection of participants, program venue and program evaluation) and program content (orientation and wrap-up sessions, program meetings, resource materials and follow-up activities).

6. Project Evaluation: Proposals should include a plan to evaluate the activity's success, both as the activities unfold and at the end of the program. A draft survey questionnaire or other technique plus description of a methodology to use to link outcomes to original project objectives is recommended.

7. Cost-effectiveness and Cost-Sharing: The overhead and administrative components of the proposal, including salaries and honoraria, should be kept as low as possible. All other items should be necessary and appropriate. Proposals should maximize cost-sharing through other private sector support as well as institutional direct funding contributions.

VI. Award Administration Information

VI.1a. Award Notices

Final awards cannot be made until funds have been appropriated by Congress, allocated and committed through internal Bureau procedures. Successful applicants will receive a Federal Assistance Award (FAA) from the Bureau's Grants Office. The FAA and the original proposal with subsequent modifications (if applicable) shall be the only binding authorizing document between the recipient and the U.S. Government. The FAA will be signed by an authorized Grants Officer, and mailed to the recipient's responsible officer identified in the application.

Unsuccessful applicants will receive notification of the results of the application review from the ECA program office coordinating this competition.

VI.1b The following additional requirements apply to this project: All awards made under this competition must be executed according to all relevant U.S. laws and policies regarding assistance to the Palestinian Authority, and to the West Bank and Gaza. Organizations must consult with relevant Public Affairs Offices before entering into any formal arrangements or agreements with Palestinian organizations or institutions.

Note: To assure that planning for the inclusion of the Palestinian Authority complies with requirements, please contact Program Officer Melissa Fernandez 202-453-8855 and accessprogram@state.gov for additional information.

Special Provision for Performance in a Designated Combat Area (Currently Iraq and Afghanistan) (December 2008)

All Recipient personnel deploying to areas of combat operations, as designated by the Secretary of Defense (currently Iraq and Afghanistan), under assistance awards over $100,000 or performance over 14 days must register in the Department of Defense maintained Synchronized Pre-deployment and Operational Tracker (SPOT) system. Recipients of federal assistance awards shall register in SPOT before deployment, or if already in the designated operational area, register upon becoming an employee under the assistance award, and maintain current data in SPOT. Information on how to register in SPOT will be available from your Grants Officer or Grants Officer Representative during the final negotiation and approval stages in the federal assistance awards process. Recipients of federal assistance awards are advised that adherence to this policy and procedure will be a requirement of all final federal assistance awards issued by ECA.

Recipient performance may require the use of armed private security personnel. To the extent that such private security contractors (PSCs) are required, grantees are required to ensure they adhere to Chief of Mission (COM) policies and procedures regarding the operation, oversight, and accountability of PSCs.

VI.2 Administrative and National Policy Requirements

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments”.

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations.

Please reference the following Web sites for additional information: http://www.whitehouse.gov/omb/grants and http://fa.statebuy.state.gov.

VI.3. Reporting Requirements

You must provide ECA with a hard copy of the original plus 10 copies of the following reports:

(1) A final program and financial report no more than 90 days after the expiration of the award;

(2) A concise, one-page final program report summarizing program outcomes no more than 90 days after the expiration of the award. This one-page report will be transmitted to OMB, and be made available to the public via OMB's USAspending.gov Web site—as part of ECA's Federal Funding Accountability and Transparency Act (FFATA) reporting requirements.

(3) A SF-PPR, “Performance Progress Report” Cover Sheet with all program reports.

(4) Quarterly program and financial reports

Award recipients will be required to provide reports analyzing their evaluation findings to the Bureau in their regular program reports. (Please refer to IV. Application and Submission Instructions (IV.3.d.3) above for Program Monitoring and Evaluation information.)

All data collected, including survey responses and contact information, must be maintained for a minimum of three years and provided to the Bureau upon request.

All reports must be sent to the ECA Grants Officer and ECA Program Officer listed in the final assistance award document.

VI.4. Optional Program Data Requirements

Award recipients will be required to maintain specific data on program participants and activities in an electronically accessible database format that can be shared with the Bureau as required. As a minimum, the data must include the following:

(1) Name, address, contact information and biographic sketch of all persons who travel internationally on funds provided by the agreement or who benefit from the award funding but do not travel.

(2) Itineraries of international and domestic travel, providing dates of travel and cities in which any exchange experiences take place. Final schedules for in-country and U.S. activities must be received by the ECA Program Officer at least one week prior to the official opening of the activity.

VII. Agency Contacts

For questions about this announcement, contact: Melissa Fernandez, Bureau of Educational and Cultural Affairs, Office of English Language Programs, ECA/A/L, Room 304, ECA/A/L 09-02, U.S. Department of State, SA-44, 301 4th Street, SW., Washington, DC 20547, telephone: 202-453-8855, fax: 202-453-8858, and e-mail: accessprogram@state.gov.

All correspondence with the Bureau concerning this RFGP should reference the above title and number ECA/A/L 09-02. Please read the complete announcement before sending inquiries or submitting proposals. Once the RFGP deadline has passed, Bureau staff may not discuss this competition with applicants until the proposal review process has been completed.

VIII. Other Information

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: April 23, 2009.
C. Miller Crouch,
Acting Assistant Secretary for Educational and Cultural Affairs, Department of State.

[FR Doc. E9-9811 Filed 4-29-09; 8:45 am]

BILLING CODE 4710-05-P